FEDERAL COMMUNICATIONS COMMISSION

Public Information Collection Approved by Office of Management and Budget

AGENCY: Federal Communications Commission.

ACTION: Notice.

SUMMARY: The Federal Communications Commission received Office of Management and Budget (OMB) approval for the public information collections FCC Form 321, Aeronautical Frequency Notification, (OMB Control No. 3060-0310); FCC Form 322 Cable Community Registration, (OMB Control No. 3060-0331); FCC Form 324, Operator, Mail Address, and Operational Information Changes, (OMB Control No. 3060-1045 (new collection)); and FCC Form 327, Application for Cable Television Relay Service Station (CARS) Authorization, (OMB Control No. 3060-0055).

DATES: Effective dates for these public information collections are November 3, 2003 for OMB 3060-0055 (FCC 327); December 1, 2003 for OMB 3060-0310 (FCC 324) and OMB 3060-1045 (FCC 324) and December 10 for OMB 3060-0331 (FCC 321).

FOR FURTHER INFORMATION CONTACT: Wayne T. McKee, Media Bureau, (202) 418-2355.

SUPPLEMENTARY INFORMATION: The Federal Communications Commission received OMB approval for FCC Form 321 Aeronautical Frequency Notification, (OMB Control No. 3060-0331), FCC Form 322, Cable Community Registration, (OMB Control No. 3060-0310), FCC Form 324, Operator, Mail Address, and Operational Information Changes, (OMB Control No. 3060-1045 (new collection)), and FCC Form 327, Application for Cable Television Relay Service Station (CARS) Authorization, (OMB Control No. 3060-0055) . Therefore, the Commission announces that the effective dates for these public information collections are November 3, 2003 for OMB 3060-0055 (FCC 327); December 1, 2003 for OMB 3060-0310 (FCC 324) and OMB 3060-1045 (FCC 324) and December 10 for OMB 3060-0331 (FCC 321).

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. Questions concerning this revised information collection should be directed to Leslie F. Smith, Federal Communications Commission, (202) 418-0217 or via the Internet at Leslie.Smith@fcc.gov.

Federal Communications Commission.
Marlene H. Dortch,
Secretary.

[FR Doc. 04-1530 Filed 1-23-04; 8:45 am]

BILLING CODE 6712-01-P